DEPARTMENT OF COMMERCE

National Oceanic and Atmospheric Administration

Ocean Research Advisory Panel (ORAP)

AGENCY: National Oceanic and Atmospheric Administration (NOAA), Department of Commerce (DOC).

ACTION: Notice of public meetings.

SUMMARY: This notice sets forth the schedule and proposed agenda of a meeting of the Ocean Research Advisory Panel (ORAP). The members will discuss issues outlined in the section on matters to be considered.

DATES: The meeting is scheduled for December 13, 2023 from 9 a.m. to 4:30 p.m. Eastern Standard Time (EST) and December 14, 2023 from 9 a.m. to 12:30 p.m. EST. These times and the agenda topics described below are subject to change. For the latest agenda please refer to the ORAP website: https://www.noaa.gov/ocean-research-advisory-panel/orap-public-meetings.

ADDRESSES: The December 13-14, 2023 meeting will be at the AGU Conference Center, 2000 Florida Ave NW, Washington, DC 20009. The link for the webinar registration will be posted, when available, on the ORAP website: https://www.noaa.gov/ocean-research-advisory-panel/orap-public-meetings.

FOR FURTHER INFORMATION CONTACT: Viviane Silva, ORAP Designated Federal Officer (DFO), SSMC3, Room 11320, 1315 East-West Hwy., Silver Spring, MD 20910; Phone Number: 240-624-0656; Email: DFO.orap@noaa.gov; or visit the ORAP website at https://www.noaa.gov/ocean-research-advisory-panel/orap-public-meetings.

SUPPLEMENTARY INFORMATION: The Ocean Research Advisory Panel (ORAP) advises the Ocean Policy Committee (OPC) and provides independent recommendations to the Federal Government on matters of ocean policy.

Congress directed the establishment of the ORAP in section 1055(c) of the William M. (Mac) Thornberry National Defense Authorization Act for Fiscal Year 2021 (Pub. L. 116-283), 10 U.S.C. 8933.

ORAP's responsibilities are (1) to advise the OPC on policies and procedures to implement the National Oceanographic Partnership Program; (2) to advise the OPC on matters relating to national oceanographic science, engineering, facilities, or resource requirements; (3) to advise the OPC on improving diversity, equity, and inclusion in the ocean sciences and related fields; (4) to advise the OPC on national ocean research priorities; and (5) any additional responsibilities that the OPC considers appropriate.

Status: The December 13, 2023 meeting will be open to public participation with a 15-minute public comment period at 3:15 p.m. EST. The ORAP expects that public statements presented at its meetings will not be repetitive of previously submitted verbal or written statements. In general, each individual or group making a verbal presentation will be limited to a total time of three minutes. Written comments for the December 13-14, 2023 meeting should be received by December 1, 2023 by the ORAP DFO (DFO.orap@noaa.gov) to provide sufficient time for ORAP review. Written comments received by the ORAP DFO after this date will be distributed to the ORAP, but may not be reviewed prior to the meeting date.

Special Accommodations: These meetings are physically accessible to people with disabilities. Requests for special accommodations may be directed to the ORAP DFO no later than 12 p.m. EST on December 1, 2023.

Matters To Be Considered: The December 13-14, 2023 meeting, will explore the Ocean Policy Committee (OPC) Action Plan and identify areas for ORAP focus. Additionally, as the first meeting of ORAP advising OPC, it will allow ORAP to organize internally to conduct work. The expected outcomes are a shared understanding between ORAP and OPC on interests, capacities, opportunities, and expectations regarding ORAP efforts, and identification of initial topics for ORAP to address.

Meeting materials, including work products, will be made available on the ORAP website: https://www.noaa.gov/ocean-research-advisory-panel/orap-public-meetings.

Dated: November 14, 2023.
David Holst,
Director Chief Financial Officer/CAO, Office of Oceanic and Atmospheric Research, National Oceanic and Atmospheric Administration.

[FR Doc. 2023-26076 Filed 11-24-23; 8:45 am]

BILLING CODE 3510-KD-P